DEPARTMENT OF HOMELAND SECURITY

Federal Emergency Management Agency

[Docket ID FEMA-2018-0002; Internal Agency Docket No. FEMA-B-1823]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 6, 2018.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1823, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Date: May 1, 2018.
David I. Maurstad,
Deputy Associate Administrator for Insurance and Mitigation (Acting), Department of Homeland Security, Federal Emergency Management Agency.

Community | Community map repository address
Mobile County, Alabama and Incorporated Areas
Project: 09-04-8023S Preliminary Date: November 15, 2017
City of Bayou La Batre | City Hall, 13785 South Wintzell Avenue, Bayou La Batre, AL 36509.
City of Chickasaw | City Hall, 224 North Craft Highway, Chickasaw, AL 36611.
City of Citronelle | City Hall, 19135 South Main Street, Citronelle, AL 36522.
City of Creola | City Hall, 9615 Old Highway 43, Creola, AL 36525.
City of Mobile | City Hall, Engineering Department, 205 Government Street, Mobile, AL 36644.
City of Prichard | City Hall, 216 East Prichard Avenue, Prichard, AL 36610.
City of Saraland | Building Department, 933 Saraland Boulevard South, Saraland, AL 36571.
City of Satsuma | City Hall, 5464 Old Highway 43, Satsuma, AL 36572.
City of Semmes | City Hall, 7875 Moffett Road, Suite F, Semmes, AL 36575.
Town of Dauphin Island | Town Hall, 1011 Bienville Boulevard, Dauphin Island, AL 36528.
Town of Mount Vernon | Town Hall, 1565 Boyles Avenue, Mount Vernon, AL 36560.
Unincorporated Areas of Mobile County | Department of Public Works, Engineering Department, Government Plaza, 205 Government Street, Mobile, AL 36644.
Alachua County, Florida and Incorporated Areas
Project: 13-04-3149S Preliminary Date: July 17, 2017
City of Gainesville | Public Works Department, 405 North West 39th Avenue, Gainesville, FL 32609.
Unincorporated Areas of Alachua County | Alachua County Public Works Department, 5620 North West 120th Lane, Gainesville, FL 32653.
Hendry County, Florida and Incorporated Areas
Project: 17-04-4566S Preliminary Date: October 16, 2017
City of Clewiston | Community Development Department, 121 Central Avenue, Clewiston, FL 33440.
Unincorporated Areas of Hendry County | Hendry County Administrative Office, 640 South Main Street, LaBelle, FL 33935.
Sumter County, Florida and Incorporated Areas
Project: 16-04-6907S Preliminary Date: June 9, 2017
City of Center Hill | Sumter County Department of Emergency Management, 7375 Powell Road, Wildwood, FL 34785.
City of Webster | Sumter County Department of Emergency Management, 7375 Powell Road, Wildwood, FL 34785.
City of Wildwood | City Hall, 100 North Main Street, Wildwood, FL 34785.
Unincorporated Areas of Sumter County | Sumter County Department of Emergency Management, 7375 Powell Road, Wildwood, FL 34785.
Burke County, Georgia and Incorporated Areas
Project: 16-04-5708S Preliminary Date: June 15, 2017
Unincorporated Areas of Burke County | Burke County Courthouse, 602 North Liberty Street, Waynesboro, GA 30830.
DeKalb County, Georgia and Incorporated Areas
Project: 17-04-4538S Preliminary Date: August 14, 2017 and December 20, 2017
City of Atlanta | Department of Planning and Community Development, 55 Trinity Avenue Southwest, Suite 4700, Atlantic, GA 30303.
City of Brookhaven | City Hall, 4362 Peachtree Road, Brookhaven, GA 30319.
City of Chamblee | City Hall, 5468 Peachtree Road, Chamblee, GA 30341.
City of Clarkston | City Hall—Annex, 1055 Rowland Street, Clarkston, GA 30021.
City of Decatur | Leveritt Public Works Building, 2635 Talley Street, Decatur, GA 30030.
City of Doraville | City Hall, 3725 Park Avenue, Doraville, GA 30340.
City of Dunwoody | City Hall, 4800 Ashford Dunwoody Road, Dunwoody, GA 30338.
City of Tucker | City Hall, 4119 Adrian Street, Tucker, GA 30084.
Unincorporated Areas of DeKalb County | DeKalb County Roads and Drainage Department, 727 Camp Road, Decatur, GA 30032.

[FR Doc. 2018-09786 Filed 5-7-18; 8:45 am]

BILLING CODE 9110-12-P